DEPARTMENT OF HEALTH AND HUMAN SERVICES

Administration for Children and Families

Administration for Native Americans; Notice of Meeting

AGENCY: Administration for Children and Families, Department of Health and Human Services.

ACTION: Notice of Tribal Consultation.

SUMMARY: The Department of Health and Human Services (Department), Administration for Children and Families (ACF), will host a Tribal Consultation to consult on ACF programs and tribal priorities.

DATES: June 15, 2016.

ADDRESSES: 330 C Street SW., Washington, DC 20201.

FOR FURTHER INFORMATION CONTACT: Lillian A. Sparks Robinson, Commissioner, Administration for Native Americans, at 202-401-5590, by email at Lillian.sparks@acf.hhs.gov or by mail at 330 C Street SW., Mail Stop 4126, Washington, DC 20201.

SUPPLEMENTARY INFORMATION: On November 5, 2009, President Obama signed the “Memorandum for the Heads of Executive Departments and Agencies on Tribal Consultation.” The President stated that his Administration is committed to regular and meaningful consultation and collaboration with tribal officials in policy decisions that have tribal implications, including, as an initial step, through complete and consistent implementation of Executive Order 13175.

The United States has a unique legal and political relationship with Indian tribal governments, established through and confirmed by the Constitution of the United States, treaties, statutes, executive orders, and judicial decisions. In recognition of that special relationship, pursuant to Executive Order 13175 of November 6, 2000, executive departments and agencies are charged with engaging in regular and meaningful consultation and collaboration with tribal officials in the development of federal policies that have tribal implications, and are responsible for strengthening the government-to-government relationship between the United States and Indian tribes.

The Department has taken its responsibility to comply with Executive Order 13175 very seriously over the past decade; including the initial implementation of a Department-wide policy on tribal consultation and coordination in 1997, and through multiple evaluations and revisions of that policy, most recently in 2010. ACF has developed its own agency-specific consultation policy that complements the Department-wide efforts.

The ACF Tribal Consultation Session will begin the morning of June 15, 2016, at the Residence Inn Marriot, Capitol Hill, 333 E Street SW., Washington, DC.

ACF is soliciting input and dialogue on the following priority areas that will institutionalize ACF's impact on Native American Communities:

• Native Youth and Children Agenda

• Complex Trauma

• Principles for Working with Tribal Governments

The Native Youth and Children Agenda is a document reflecting a structure for innovative policymaking to guide stronger and more effective programming that can provide Native American parents, Native American caregivers, Native American leadership, and Native American children and youth with the tools they need to thrive. ACF's Native American Youth and Children Policy Agenda will stand as the policy standard for fostering connections of Native American children and youth to the relationships they have with their cultures, languages, extended families, and Native communities that foster resiliency and positive outcomes.

ACF's Commissioner of the Administration for Native Americans, in her role as the Chair of the Intra-Departmental Council on Native American Affairs, has been leading efforts with the Department's Office of Intergovernmental and External Affairs to coordinate a Department-wide workgroup of staff from across the Department's Operating and Staff Divisions to develop a strengths-based framework for the Department's work to address trauma, including historical trauma, in Native American communities. This work is in response to a Congressional request for an integrated and comprehensive Department-wide policy addressing complex trauma affecting Native American children and communities.

ACF's Administration for Native Americans and Administration for Children, Youth, and Families have worked together to draft “Principles for Working with Federally Recognized Indian Tribes” designed to extend and complement ACF's Tribal Consultation Policy and to articulate ACF's commitment to promote and sustain strong government-to-government relationships, foster Indian self-determination, and protect tribal sovereignty.

Testimonies are to be submitted no later than June 8, 2016, to: Lillian Sparks Robinson, Commissioner, Administration for Native Americans, 330 C Street SW., Mail Stop 4126, Washington, DC 20201, anacommissioner@acf.hhs.gov.

Registration for the consultation can be completed at the following: https://www.regonline.com/acfhrsaconsultation2016, using passcode ACFHRSAConsultation. From the registration link you will find the tribal consultation draft agenda and information about hotels in and around the meeting site.

Dated: April 28, 2016.
Mark H. Greenberg,
Acting Assistant Secretary for Children and Families.

[FR Doc. 2016-10525 Filed 5-4-16; 8:45 am]

BILLING CODE 4184-01-P